DEPARTMENT OF STATE

[Public Notice 4759]

FY 2005 Refugee Admissions Program; Notice of Meeting

The Department of State will host a meeting on the President's FY 2005 Refugee Admissions Program on Wednesday, July 28, 2004, from approximately 1 p.m. to 3 p.m. The meeting will be held at the Refugee Processing Center, 1401 Wilson Boulevard, Suite 700, Arlington, Virginia. The meeting's purpose is to hear the views of attendees on the appropriate size and scope of the FY 2005 Refugee Admissions Program.

Seating is limited. Persons wishing to attend this meeting must notify the Bureau of Population, Refugees, and Migration at (202) 663-1006 by 5 p.m. (e.d.t.), Wednesday, July 21, 2004, to register attendance. Persons wishing to present oral comments at the open portion of the meeting, or to submit written comments must provide them in writing by 5 p.m. (e.d.t.), Wednesday, July 21, 2004. Those who are unable to attend but wish to submit comments should also provide them by 5 p.m. (e.d.t.), Wednesday, July 21, 2004. All comments may be faxed to (202) 663-1364.

Information about the Refugee Admissions Program may be found at http://www.state.gov/g/prm/.

J. Kelly Ryan,
Deputy Assistant Secretary of State, Bureau of Population, Refugees, and Migration, Department of State.

[FR Doc. 04-15828 Filed 7-12-04; 8:45 am]

BILLING CODE 4710-10-P